DEPARTMENT OF TRANSPORTATION

Federal Aviation Administration

Notice of Intent To Request Renewal From the Office of Management and Budget (OMB) of Four Current Public Collections of Information

AGENCY: Federal Aviation Administration (FAA), DOT.

ACTION: Notice.

SUMMARY: In compliance with the Paperwork Reduction Act (44 U.S.C. 3501 et seq), the FAA invites public comment on four currently approved public information collections which will be submitted to OMB for renewal.

DATES: Comments must be received on or before October 25, 2004.

ADDRESSES: Comments may be mailed or delivered to the FAA at the following address: Ms. Judy Street, Room 612, Federal Aviation Administration, Standards and Information Division, APF-100, 800 Independence Ave., SW., Washington, DC 20591.

FOR FURTHER INFORMATION CONTACT: Ms. Judy Street at the above address, on (202) 267-9895, or by e-mail at: Judy.Street@faa.gov.

SUPPLEMENTARY INFORMATION: In accordance with the Paperwork Reduction Act of 1995, an agency may not conduct or sponsor, and a person is not required to respond to a collection of information unless it displays a currently valid OMB control number. Therefore, the FAA solicits comments on the following current collections of information. Comments should evaluate the necessity of the collection, the accuracy of the agency's estimate of the burden, the quality, utility, and clarity of the information to be collected, and possible ways to minimize the burden of the collection.

1. 2120-0057, Safety Improvements Report Accident Prevention Counselor Activity Reports. The affected public for this collection are pilots, airport operators, and charter and commuter aircraft operators engaging in air transportation. Safety improvement reports are used by airmen to notify the FAA of hazards to flight operations. Accident Prevention Counselor Activity Reports are used by counselors to advise the FAA of Accident Prevention Program accomplishments. The current estimated annual reporting burden is 1,769 hours.

2. 2120-0539, Implementation to the Equal Access to Justice Act. The information is needed to determine an applicant's eligibility for an award of attorney's fees and other expenses under the Equal Access to Justice Act. The current estimated annual reporting burden is 600 hours.

3. 2120-0574, Aviation Safety Counselor of the Year Award. The form is used to nominate private citizens for recognition of their volunteer service to the FAA. The agency will use the information on the form to select nine regional winners and one national winner. The respondents are private citizens involved in aviation. The current estimated annual reporting burden is 180 hours.

4. 2120-0632, Office of Dispute Resolution Procedures for Protests and Contact Disputes, 14 CFR 17. 14 CFR part 17 sets forth procedures for filing solicitation protests and contract claims in the FAA's Office of Dispute Resolution for Acquisition. The regulations seek factual and legal information from protesters or claimants primarily through written submissions. The current estimated annual reporting burden is 820 hours.

Dated: Issued in Washington, DC, on August 19, 2004.
Judith D. Street,
FAA Information Collection Clearance Officer, APF-100.

[FR Doc. 04-19459 Filed 8-24-04; 8:45 am]

BILLING CODE 4910-13-M